DEPARTMENT OF COMMERCE

International Trade Administration

[A-580-880, A-201-847, A-489-824]

Heavy Walled Rectangular Welded Carbon Steel Pipes and Tubes From the Republic of Korea, Mexico, and the Republic of Turkey: Postponement of Preliminary Determinations of Antidumping Duty Investigations

AGENCY: Enforcement and Compliance, International Trade Administration, Department of Commerce.

FOR FURTHER INFORMATION CONTACT: Elizabeth Eastwood at (202) 482-3874 (the Republic of Korea (Korea)), David Crespo at (202) 482-3693 (Mexico), or Rebecca Trainor at (202) 482-4007 (the Republic of Turkey (Turkey)); AD/CVD Operations, Enforcement and Compliance, International Trade Administration, U.S. Department of Commerce, 14th Street and Constitution Avenue NW., Washington DC 20230.

SUPPLEMENTARY INFORMATION:

Postponement of Preliminary Determinations

On August 10, 2015, the Department of Commerce (the Department) initiated antidumping duty investigations of imports of heavy walled rectangular carbon steel pipes and tubes (HWR pipes and tubes) from Korea, Mexico, and Turkey.¹ The notice of initiation stated that we would issue our preliminary determinations no later than 140 days after the date of initiation. Currently, the preliminary determinations in these investigations are due on December 28, 2015.

¹ See Heavy Walled Rectangular Welded Carbon Steel Pipes and Tubes from the Republic of Korea, Mexico, and the Republic of Turkey: Inititaion of Less-Than-Fair Value Investigations, 80 FR 49202 (August 17, 2015).

On November 30, 2015, Atlas Tube, a division of JMC Steel Group; Bull Moose Tube Company; EXLTUBE; Hannibal Industries, Inc.; Independence Tube Corporation; Maruichi American Corporation; Searing Industries; Southland Tube; and Vest, Inc., U.S. producers on whose behalf the petitions in these cases were filed (hereafter, the petitioners) made timely requests, pursuant to section 733(c)(1)(A) of the Tariff Act of 1930, as amended (the Act), and 19 CFR 351.205(e), for a 50-day postponement of the preliminary determinations in the investigations.² The petitioners stated that a postponement of the preliminary determinations in all three HWR pipes and tubes investigations is necessary to provide the Department with sufficient time to reach reasoned preliminary determinations.

² See the petitioners' letters to the Department dated November 30, 2015.

Under section 733(c)(1)(A) of the Act, if a petitioner makes a timely request for an extension of the period within which the preliminary determination must be made under subsection (b)(1), then the Department may postpone making the preliminary determination under subsection (b)(1) until not later than the 190th day after the date on which the administering authority initiated the investigation. Therefore, for the reasons stated above, and because there are no compelling reasons to deny the petitioners' requests, the Department is postponing the preliminary determinations in these investigations until Februrary 16, 2016, which is 190 days from the date on which the Department initiated these investigations.

The deadline for the final determinations will continue to be 75 days after the date of the preliminary determinations, unless extended.

This notice is issued and published pursuant to section 733(c)(2) of the Act and 19 CFR 351.205(f)(1).

Dated: December 2, 2015.
Christian Marsh,
Deputy Assistant Secretary for Antidumping and Countervailing Duty Operations.

[FR Doc. 2015-30897 Filed 12-7-15; 8:45 am]

BILLING CODE 3510-DS-P